NATIONAL AERONAUTICS AND SPACE ADMINISTRATION

[Notice 01-088]

NASA Advisory Council (NAC), Space Science Advisory Committee (SScAC); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee.

DATES: Wednesday, July 25, 2001, 8:30 a.m. to 5:30 p.m.; Thursday, July 26, 2001, 8:30 a.m. to 5:30 p.m.; and Friday, July 27, 2001, 8:30 a.m. to Noon.

ADDRESSES: NASA Headquarters, 300 E Street, SW., Conference Room 6H46, Washington, DC 20546.

FOR FURTHER INFORMATION CONTACT: Ms. Marian Norris, Code SB, National Aeronautics and Space Administration, Washington, DC 20546, 202/358-4452.

SUPPLEMENTARY INFORMATION: The meeting will be open to the public up to the capacity of the room. The agenda for the meeting includes the following:

—Associate Administrator's Program Status Report

—Subcommittee Reports

—OSS Program Status

—IT Security Issues

—Technology Programs Update

—Space Operations Status

—Research Programs Review

It is imperative that the meeting be held on these dates to accommodate the scheduling priorities of the key participants. Visitors will be requested to sign a visitor's register.

Dated: July 9, 2001.
Beth M. McCormick,
Advisory Committee Management Officer, National Aeronautics and Space Administration.

[FR Doc. 01-17509 Filed 7-12-01; 8:45 am]

BILLING CODE 7510-01-U